DEPARTMENT OF COMMERCE

National Oceanic and Atmospheric Administration

RIN 0648-XZ51

Marine Mammals; File No. 15543

AGENCY: National Marine Fisheries Service (NMFS), National Oceanic and Atmospheric Administration (NOAA), Commerce.

ACTION: Notice; receipt of application for permit amendment.

SUMMARY: Notice is hereby given that Randall S. Wells, Ph.D. (Principal Investigator), Sarasota Dolphin Research Program, c/o Mote Marine Laboratory, 1600 Ken Thompson Parkway, Sarasota, FL 34236, has applied for an amendment to Scientific Research Permit No.15543-03.

DATES: Written, telefaxed, or email comments must be received on or before February 9, 2015.

ADDRESSES: The application and related documents are available for review by selecting “Records Open for Public Comment” from the Features box on the Applications and Permits for Protected Species home page, https://apps.nmfs.noaa.gov, and then selecting File No.15543 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Brendan Hurley, (301) 427-8401.

SUPPLEMENTARY INFORMATION: The subject amendment to Permit No. 15543-03 is requested under the authority of the Marine Mammal Protection Act of 1972, as amended (16 U.S.C. 1361 et seq.), the regulations governing the taking and importing of marine mammals (50 CFR part 216).

Permit No. 15543, issued on May 26, 2011 (76 FR 32144), authorizes the permit holder to conduct photo-identification and behavioral studies, remote biopsy sampling, and temporary capture and release activities for health assessments of bottlenose dolphins. Research may occur in shallow, inshore and coastal waters of west Florida out to 50 miles offshore. The permit was modified with several minor amendments that further authorized the development of cell lines from blubber tissue (Permit No. 15543-01, issued September 21, 2011); the application of zinc oxide to mark animals to aid in their identification during post-tagging behavioral observations (Permit No. 15543-02, issued January 22, 2014); and the use of an unmanned aerial system (UAS) to aid in health assessment captures and field surveys (Permit No. 15543-03; issued May 1, 2014).

The applicant has requested to amend the permit by expanding the study area to include the bay, sound, estuary and associated coastal waters of Mobile Bay, Alabama, and Terrebonne Bay, Louisiana, and 160 annual takes in each location by remote biopsy sampling of bottlenose dolphins. Additionally, 160 annual biopsy takes will be added to the currently authorized allotment of Florida biopsy activities to include a focused study in Pensacola Bay, FL. These research activities aim to understand dolphin population dynamics, abundance, movement patterns, feeding ecology, and specific metrics of biological and physiological condition to understand acute and chronic effects of the Deepwater Horizon oil spill. Biopsy samples will be distributed to authorized recipients for processing.

The applicant has also requested to capture, satellite-tag, and release up to 25 Atlantic spotted dolphins (Stenella frontalis) for health assessments by hoop-netting bow-riding individuals during surveys on the West Florida Shelf. Up to 2 takes by unintentional mortality are requested annually. These activities will help to determine ranging patterns, dive behavior and habitat use of this understudied species. These same activities are already authorized for bottlenose dolphins under the current permit (No. 15543-03).

Finally, the applicant has requested a minor procedural modification to allow the administration of doubly-labeled water (deuterium oxide and oxygen-18) to bottlenose dolphins that are temporarily captured during health assessments. This procedure is part of a larger study to determine the metabolic rates of females with and without calves, and of 2-3 year old calves. The doubly-labeled water will be administered via a stomach tube (procedural variants of this, lavage and gastric sampling, is already authorized under the current permit). Additional personnel with germane experience to this project are requested to be Co-investigators.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 24, 2014.
Julia Harrison,
Chief, Permits and Conservation Division, Office of Protected Resources, National Marine Fisheries Service.

[FR Doc. 2015-00142 Filed 1-8-15; 8:45 am]

BILLING CODE 3510-22-P